SECURITIES AND EXCHANGE COMMISSION

[File No. 500-1]

In the Matter of Citadel EFT, Inc.; Order of Suspension of Trading

March 21, 2014.

It appears to the Securities and Exchange Commission that there is a lack of current and accurate information concerning the securities of Citadel EFT, Inc. (“Citadel”) because of questions regarding the accuracy of assertions by Citadel in public statements regarding the company's business operations and assets. In particular, there are questions regarding the accuracy, completeness, and validity of Citadel's several recent press releases, Form 8-Ks, and other public statements since January 2014 relating to transactions involving standby letters of credit (“SBLC's”), see Prime Bank Instrument Fraud, TreasuryDirect.gov (U.S. Department of the Treasury), http://www.treasurydirect.gov/instit/statreg/fraud/fraud_primebank.htm (last visited Mar. 20, 2014) and Brazilian Letras Tesouro Nacional (“LTN's”), see Frauds Related to Public Bonds, Tesouro Nacional (Brazil), https://www.tesouro.fazenda.gov.br/en/about-the-federal-public-debt/frauds-related-to-public-bonds (last visited Mar. 20, 2014). Citadel is a Wyoming corporation based in Oceanside, California. It is quoted on OTC Link under the symbol CDFT.

The Commission is of the opinion that the public interest and the protection of investors require a suspension of trading in the securities of the above-listed company.

Therefore, it is ordered, pursuant to Section 12(k) of the Securities Exchange Act of 1934, that trading in the securities of the above-listed company is suspended for the period from 9:30 a.m. EDT on March 21, 2014 through 11:59 p.m. EDT, on April 3, 2014.

By the Commission.
Jill M. Peterson,
Assistant Secretary.

[FR Doc. 2014-07230 Filed 3-27-14; 4:15 pm]

BILLING CODE 8011-01-P